DEPARTMENT OF HEALTH AND HUMAN SERVICES

Centers for Disease Control and Prevention

Disease, Disability, and Injury Prevention and Control Special Interest Projects (SIPs): Initial Review

The meeting announced below concerns “Using Behavioral Economics to Promote Colorectal Cancer Screening in Disadvantaged Communities, SIP11-041, Feasibility Study to Link Data from the National Breast and Cervical Cancer Early Detection Program (NBCCEDP), the National Program of Cancer Registries (NPCR), and Medicare to Evaluate Screening Practice and Treatment Outcomes of Former NBCCEDP Clients, SIP11-043, Potential for Cancer Screening Interventions for Cancer Survivors Delivered Through Central Cancer Registries, SIP11-044, Panel B,” initial review.

In accordance with Section 10(a)(2) of the Federal Advisory Committee Act (Pub. L. 92-463), the Centers for Disease Control and Prevention (CDC) announces the aforementioned meeting:

Times And Dates: 8:30 a.m.-5:30 p.m., June 1, 2011 (Closed). 8:30 a.m.-5:30 p.m., June 2, 2011 (Closed).

Place: Georgian Terrace Hotel, 659 Peachtree Street, NE., Atlanta, Georgia 30308, Telephone: (404) 989-8305.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of “Using Behavioral Economics to Promote Colorectal Cancer Screening in Disadvantaged Communities, SIP11-041, Feasibility Study to Link Data from the National Breast and Cervical Cancer Early Detection Program (NBCCEDP), the National Program of Cancer Registries (NPCR), and Medicare to Evaluate Screening Practice and Treatment Outcomes of Former NBCCEDP Clients, SIP11-043, Potential for Cancer Screening Interventions for Cancer Survivors Delivered Through Central Cancer Registries, SIP11-044, Panel B,” initial review.

Contact Person For More Information: Brenda Colley Gilbert, PhD, M.P.H., Director, Extramural Research Program Office, National Center for Chronic Disease Prevention and Health Promotion, CDC, 4770 Buford Highway, NE., Mailstop K-92, Telephone: (770) 488-6295, BJC4@cdc.gov.

The Director, Management Analysis and Services Office, has been delegated the authority to sign Federal Register notices pertaining to announcements of meetings and other committee management activities, for both the Centers for Disease Control and Prevention and the Agency for Toxic Substances and Disease Registry.

Dated: May 6, 2011.
Andre Tyler,
Acting Director, Management Analysis and Services Office, Centers for Disease Control and Prevention.

[FR Doc. 2011-11683 Filed 5-11-11; 8:45 am]

BILLING CODE 4163-18-P